Title 3—

The President

Proclamation 9814 of October 31, 2018

Critical Infrastructure Security and Resilience Month, 2018

By the President of the United States of America

A Proclamation

The world today relies on critical infrastructure, such as power grids, water and food supplies, election infrastructure, transportation systems, and communications networks, that is increasingly complex, interconnected, and interdependent. During Critical Infrastructure Security and Resilience Month, we emphasize the vital role of strong national infrastructure in the national and economic security of our Nation. By mitigating risks to our critical infrastructure, we can keep America safe, healthy, and prosperous.

Cyber actors who aim to compromise or disrupt networks—often for monetary and political gain—are an increasing threat to our critical infrastructure. In September, I released the first fully articulated National Cyber Strategy in 15 years. The implementation of this strategy will strengthen America's defenses against cyber threats, help to secure our critical infrastructure, and protect cyberspace as an engine of economic growth, innovation, and democratic security. A key aspect of the strategy is strengthening existing partnerships with the private sector to thwart any threat and to protect critical infrastructure. By improving engagement between the United States Government and the private sector, we are better able to leverage the resources and capabilities of those who own and operate the vast majority of our Nation's critical infrastructure. Safeguarding our democratic processes is an important part of my strategy, and an imperative this election season. The protection and security of our election infrastructure, which is critical infrastructure, must be a top priority of the Federal Government and its partners across the country.

We must also maintain our focus on other aspects of our critical infrastructure, which sustain our food supply, our fuel sources, and our means of trade. National disasters like the recent wildfires, floods, and hurricanes—as well as the activities of our adversaries—speak directly to the importance of continuing to enhance and protect it. Every day, the Department of Homeland Security is working with government and private sector stakeholders to assess and address risks of every type to our critical infrastructure.

As we mark Critical Infrastructure Security and Resilience Month, we express our gratitude for the increasing efforts throughout government and the private sector to keep our Nation safe, secure, and prosperous. And we reaffirm our commitment to using our collective skills, knowledge, and capabilities to protect our country from evolving man-made and natural threats by making the Nation's critical infrastructure more secure and resilient.

NOW, THEREFORE, I, DONALD J. TRUMP, President of the United States of America, by virtue of the authority vested in me by the Constitution and the laws of the United States, do hereby proclaim November 2018 as Critical Infrastructure Security and Resilience Month. I call upon the people of the United States to recognize the importance of protecting our Nation's infrastructure and to observe this month with appropriate measures to enhance our national security and resilience.

IN WITNESS WHEREOF, I have hereunto set my hand this thirty-first day of October, in the year of our Lord two thousand eighteen, and of the Independence of the United States of America the two hundred and forty-third.

[FR Doc. 2018-24357

Filed 11-5-18; 8:45 am]

Billing code 3295-F9-P